DEPARTMENT OF HOMELAND SECURITY

Federal Emergency Management Agency

44 CFR Part 67

[Docket ID FEMA-2011-0002; Internal Agency Docket No. FEMA-B-1196]

Proposed Flood Elevation Determinations

Correction

In proposed rule document 2011-16640 appearing on pages 39063 through 39067 in the issue of Tuesday, July 5, 2011, make the following corrections:

1. On page 39064, in the table labeled “Bossier Parish, Louisiana, and Incorporated Areas”, in the second row in reference to “Red Chute Bayou”, “Approximately 1,125 feet downstream of State Route 612 (Sligo Road)” should appear as the final value in the “Location of Referenced Elevation**” column.

2. On the same page, in the same table, in the second row in reference to “Red Chute Bayou”, “+156” should appear as the final value in the “Effective” column.

3. On the same page, in the same table, in the second row in reference to “Red Chute Bayou”, “+157” should appear as the final value in the “Modified” column.

[FR Doc. C1-2011-16640 Filed 8-12-11; 8:45 am]

BILLING CODE 1505-01-D